DEPARTMENT OF STATE

[Public Notice 3401]

Culturally Significant Objects Imported for Exhibition Determinations: “Amazons of the Avant-Garde: Alexandra Exter, Natalia Goncharova, Liubov Popova, Olga Rosanova, Varvara Stepanova and Nadezhda Udaltsova”

AGENCY: Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the objects to be included in the exhibition “Amazons of the Avant-Garde: Alexandra Exter, Natalia Goncharova, Liubov Popova, Olga Rosanova, Varvara Stepanova and Nadezhda Udaltsova,” imported from abroad for the temporary exhibition without profit within the United States, are of cultural significance. The objects are imported pursuant to loan agreements with the foreign lenders. I also determine that the exhibition or display of the exhibit objects at the Guggenheim Museum in New York from on or about September 7, 2000 to on or about January 7, 2001, is in the national interest. Public Notice of these Determinations is ordered to be published in the Federal Register.

FOR FURTHER INFORMATION CONTACT: For further information, including a list of the exhibit object, contact Paul Manning, Attorney-Adviser, Office of the Legal Adviser, U.S. Department of State (telephone: 202/619-5997). The address is U.S. Department of State, SA-44, 301 4th Street, SW., Room 700, Washington, DC 20547-0001.

Dated: August 24, 2000.
William B. Bader,
Assistant Secretary for Educational and Cultural Affairs, Department of State.

[FR Doc. 00-22180 Filed 8-29-00; 8:45 am]

BILLING CODE 4710-08-U